DEPARTMENT OF COMMERCE

International Trade Administration

[A-570-890]

Wooden Bedroom Furniture From the People's Republic of China: Preliminary Results of Antidumping Duty Administrative Review and New Shipper Reviews; 2013

AGENCY: Enforcement and Compliance, International Trade Administration, Department of Commerce.

SUMMARY: The Department of Commerce (“the Department”) is conducting the ninth administrative review (“AR”) and a new shipper review (“NSR”) of the antidumping duty order on wooden bedroom furniture (“WBF”) from the People's Republic of China (“PRC”). The AR covers 28 exporters of subject merchandise, of which the Department selected one company for individual examination. The NSR covers one exporter and producer of subject merchandise. The period of review (“POR”) for the AR and NSR is January 1, 2013, through December 31, 2013. The Department preliminarily determines that the mandatory respondent in the NSR has not made sales of subject merchandise at less than normal value. Additionally, the Department preliminarily determines that it will treat the mandatory respondent in the AR as part of the PRC-wide entity. Interested parties are invited to comment on these preliminary results.

DATES: Effective Date: February 11, 2015.

FOR FURTHER INFORMATION CONTACT: Patrick O'Connor or Jeffrey Pedersen, AD/CVD Operations, Office IV, Enforcement and Compliance, International Trade Administration, Department of Commerce, 1401 Constitution Avenue NW., Washington, DC 20230; telephone: (202) 482-0989, and (202) 482-2769, respectively.

SUPPLEMENTARY INFORMATION:

Scope of the Order

The product covered by the order is wooden bedroom furniture, subject to certain exceptions.¹ Imports of subject merchandise are classified under the Harmonized Tariff Schedule of the United States (“HTSUS”) subheadings: 9403.50.9042, 9403.50.9045, 9403.50.9080, 9403.50.9042, 9403.50.9045, 9403.60.8081, 7009.92.1000 or 7009.92.5000. Although the HTSUS subheadings are provided for convenience and customs purposes, the written product description in the Order remains dispositive.²

¹ See Notice of Amended Final Determination of Sales at Less Than Fair Value and Antidumping Duty Order: Wooden Bedroom Furniture From the People's Republic of China, 70 FR 329 (January 4, 2005) (“Order”).

² For a complete description of the Scope of the Order, please see “Decision Memorandum for Preliminary Results of Antidumping Duty Administrative and New Shipper Review: Wooden Bedroom Furniture from the People's Republic of China,” from Christian Marsh, Deputy Assistant Secretary for Antidumping and Countervailing Duty Operations, to Paul Piquado, Assistant Secretary for Enforcement and Compliance (“Preliminary Decision Memorandum”), dated concurrently with this notice.

Methodology

The Department is conducting these reviews in accordance with sections 751(a)(1)(B) and 751(a)(2)(B) of the Tariff Act of 1930, as amended (“the Act”) and 19 CFR 351.213 and 19 CFR 351.214. The Department calculated export prices in accordance with section 772 of the Act. Because the PRC is a nonmarket economy (“NME”) within the meaning of section 771(18) of the Act, the Department calculated normal value in accordance with section 773(c) of the Act. For a full description of the methodology underlying our conclusions, see the Preliminary Decision Memorandum, which is hereby adopted with this notice. A list of topics discussed in the Preliminary Decision Memorandum is provided as Appendix I to this notice. The Preliminary Decision Memorandum is a public document and is on file electronically via Enforcement and Compliance's Antidumping and Countervailing Duty Centralized Electronic Service System (“ACCESS”).³ ACCESS is available to registered users at http://access.trade.gov and in the Central Records Unit, room 7046 of the main Department of Commerce building. In addition, a complete version of the Preliminary Decision Memorandum can be accessed directly at http://enforcement.trade.gov/frn/. The signed Preliminary Decision Memorandum and the electronic versions of the Preliminary Decision Memorandum are identical in content.

³ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Notice of Intent To Rescind AR, in Part

In the Initiation Notice for the AR, we stated that “for exporters and producers who submit a separate rate application or separate rate certification and subsequently are selected as mandatory respondents, these exporters and producers will no longer be eligible for separate-rate status unless they respond to all parts of the questionnaire as mandatory respondents.” ⁴ The Department selected Jiedong Lehouse Furniture Co., Ltd. (“Jiedong Lehouse”) as a mandatory respondent.⁵ The Department preliminarily determines that Jiedong Lehouse did not establish its eligibility for a separate rate for the reasons explained in the Preliminary Decision Memorandum. Accordingly, we are preliminarily treating Jiedong Lehouse as part of the PRC-wide entity.

⁴ See Initiation of Antidumping and Countervailing Duty Administrative Reviews and Request for Revocation in Part, at 79 FR 11401, 11402.

⁵ See Preliminary Decision Memorandum.

In addition, 15 other companies for which a review was requested failed to provide separate rate applications or certifications necessary to establish their eligibility for a separate rate. The Department preliminarily determines to treat these 15 companies as part of the PRC-wide entity.⁶ For additional information regarding this determination, see the Preliminary Decision Memorandum. Because no request for review was made of the PRC-wide entity, we intend to rescind the review with respect to 16 companies (which includes Jiedong Lehouse and the other 15 other companies which did not demonstrate their eligibility for separate rate status) as part of the PRC-wide entity, at the final results.⁷

⁶ Those 15 companies not establishing their eligibility for a separate rate are: (1) Art Heritage International, Ltd., Super Art Furniture Co., Ltd., Artwork Metal & Plastic Co., Ltd., Jibson Industries Ltd., Always Loyal International; (2) Cheng Meng Furniture (Pte) Ltd., Cheng Meng Decoration & Furniture (Suzhou) Co., Ltd.; (3) Coe., Ltd.; (4) Dalian Huafeng Furniture Co., Ltd.; (5) Dalian Huafeng Furniture Group Co., Ltd.; (6) Dongguan Hung Sheng Artware Products Co., Ltd., Coronal Enterprise Co., Ltd.; (7) Dongguan Yujia Furniture Co., Ltd./Dongguan Yujia Furniture Co., Ltd.; (8) Liang Huang (Jiaxing) Enterprise Co., Ltd.; (9) Marvin Furniture (Shanghai) Co. Ltd.; (10) Prime Best Factory; (11) Prime Best International Co., Ltd.; (12) Prime Wood International Co., Ltd; (13) Sen Yeong International Co., Ltd., Sheh Hau International Trading Ltd.; (14) Strongson Furniture (Shenzhen) Co., Ltd., Strongson Furniture Co., Ltd., Strongson (Hk) Co.; and (15) Zhang Zhou Sanlong Wood Product Co., Ltd.

⁷ See Antidumping Proceedings: Announcement of Change in Department Practice for Respondent Selection in Antidumping Duty Proceedings and Conditional Review of the Nonmarket Economy Entity in NME Antidumping Duty Proceedings, 78 FR 65963, 65969-70 (November 4, 2013).

Preliminary Determination of No-Shipments

Based on an analysis of U.S. Customs and Border Protection (“CBP”) information, and comments provided by a number of companies, the Department preliminarily determines that 12 of the companies for which an administrative review was requested and that claimed no shipments during this POR did not have any reviewable transactions during the POR.⁸ For additional information regarding this determination, see the Preliminary Decision Memorandum.⁹ Consistent with an announced refinement to its assessment practice in NME cases, the Department is not rescinding this administrative review, in part, but intends to complete the review with respect to the companies for which it has preliminarily found no shipments and issue appropriate instructions to CBP based on the final results of the review.¹⁰

⁸ Those 12 companies with no shipments during the POR are: (1) Baigou Crafts Factory Of Fengkai; (2) Clearwise Company Limited; (3) Dongguan Chengcheng Furniture Co., Ltd./Dongguan Chengcheng Furniture Co., Ltd.; (4) Dongguan Singways Furniture Co., Ltd.; (5) Eurosa (Kunshan) Co., Ltd., Eurosa Furniture Co., (Pte) Ltd.; (6) Golden Well International (HK) Ltd./Zhangzhou XYM Furniture Product Co., Ltd.; (7) Hangzhou Cadman Trading Co., Ltd./Haining Changbei Furniture Co., Ltd.; (8) Hualing Furniture (China) Co., Ltd., Tony House Manufacture (China) Co., Ltd., Buysell Investments Ltd., Tony House Industries Co., Ltd.; (9) Rizhao Sanmu Woodworking Co., Ltd.; (10) Shenyang Shining Dongxing Furniture Co., Ltd.; (11) Yeh Brothers World Trade, Inc.; and (12) Zhejiang Tianyi Scientific & Educational Equipment Co., Ltd./Zhejiang Tianyi Scientific & Educational Equipment Co., Ltd.

⁹ See also Memorandum from Patrick O'Connor, International Trade Compliance Analyst, Office IV, to Abdelali Elouaradia Director, Office IV, AD/CVD Operations, regarding the “Antidumping Duty Administrative Review of Wooden Bedroom Furniture from the People's Republic of China: Analysis of No Exports, Sales, or Entries by Certain Companies,” dated concurrently with this notice.

¹⁰ See Non-Market Economy Antidumping Proceedings: Assessment of Antidumping Duties, 76 FR 65694, 65694-95 (October 24, 2011) and the “Assessment Rates” section, below.

Preliminary Results of NSR

Regarding the NSR, we preliminarily determine that the following weighted-average dumping margin exists for the period January 1, 2013 through December 31, 2013:

Exporter | Producer | Weighted-average dumping margin (percent)
Wuxi Yushea Furniture Co., Ltd | Wuxi Yushea Furniture Co., Ltd | 0.00

Disclosure and Public Comment

The Department will disclose calculations performed for these preliminary results to parties within five days of the date of publication of this notice in accordance with 19 CFR 351.224(b). Interested parties may submit case briefs no later than 30 days after the date of publication of these preliminary results of review.¹¹ Rebuttals to case briefs may be filed no later than five days after the written comments are filed and all rebuttal comments must be limited to comments raised in the case briefs.¹²

¹¹ See 19 CFR 351.309(c).

¹² See 19 CFR 351.309(d).

Any interested party may request a hearing within 30 days of publication of this notice.¹³ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.¹⁴

¹³ See 19 CFR 351.310(c).

¹⁴ See 19 CFR 351.310(d).

The Department will issue the final results of this AR and NSR, which will include the results of its analysis of issues raised in any briefs received, within 120 days of publication of these preliminary results, pursuant to section 751(a)(3)(A) of the Act.

Assessment Rates

Upon issuing the final results of these reviews, the Department will determine, and CBP shall assess, antidumping duties on all appropriate entries covered by these reviews.¹⁵ The Department intends to issue assessment instructions to CBP 15 days after the publication date of the final results of these reviews.

¹⁵ See 19 CFR 351.212(b).

For each individually examined respondent in these reviews whose weighted-average dumping margin is above de minimis (i.e., 0.5 percent) in the final results of these reviews, the Department will calculate importer-specific assessment rates on the basis of the ratio of the total amount of dumping calculated for the importer's examined sales to the total entered value of those sales, in accordance with 19 CFR 351.212(b)(1).¹⁶ Where an importer- (or customer-) specific ad valorem rate is greater than de minimis, the Department will instruct CBP to collect the appropriate duties at the time of liquidation.¹⁷ Where either a respondent's weighted average dumping margin is zero or de minimis, or an importer- (or customer-) specific ad valorem dumping margin is zero or de minimis, the Department will instruct CBP to liquidate appropriate entries without regard to antidumping duties.¹⁸ We intend to instruct CBP to liquidate entries of subject merchandise exported by the PRC-wide entity at the PRC-wide rate.

¹⁶ In these preliminary results, the Department applied the assessment rate calculation method adopted in Antidumping Proceedings: Calculation of the Weighted-Average Dumping Margin and Assessment Rate in Certain Antidumping Proceedings: Final Modification, 77 FR 8101 (February 14, 2012).

¹⁷ See 19 CFR 351.212(b)(1).

¹⁸ See 19 CFR 351.212(b)(1).

The Department announced a refinement to its assessment practice in NME cases. Pursuant to this refinement in practice, for entries that were not reported in the U.S. sales database submitted by companies individually examined during the administrative review, the Department will instruct CBP to liquidate such entries at the PRC-wide rate. Additionally, if the Department determines that an exporter had no shipments of subject merchandise, any suspended entries that entered under that exporter's case number (i.e., at that exporter's rate) will be liquidated at the PRC-wide rate.¹⁹

¹⁹ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date, as provided by sections 751(a)(2)(C) of the Act: (1) For the companies listed above that have a separate rate, the cash deposit rate will be that rate established in the final results of these reviews (except, if the rate is zero or de minimis, then a zero cash deposit will be required); (2) for previously investigated or reviewed PRC and non-PRC exporters listed above that received a separate rate in a prior segment of this proceeding, the cash deposit rate will continue to be the existing exporter-specific rate; (3) for all PRC exporters of subject merchandise that have not been found to be entitled to a separate rate, the cash deposit rate will be the rate for the PRC-wide entity, which is 216.01 percent; and (4) for all non-PRC exporters of subject merchandise which have not received their own rate, the cash deposit rate will be the rate applicable to the PRC exporter that supplied that non-PRC exporter.

With respect to Wuxi Yushea, the new shipper respondent, the Department established a combination cash deposit rate for this company, consistent with its practice, as follows: (1) For subject merchandise produced and exported by Wuxi Yushea, the cash deposit rate will be the rate established for Wuxi Yushea in the final results of the NSR; (2) for subject merchandise exported by Wuxi Yushea, but not produced by Wuxi Yushea, the cash deposit rate will be the rate for the PRC-wide entity; and (3) for the subject merchandise produced by Wuxi Yushea, but not exported by Wuxi Yushea, the cash deposit rate will be the rate applicable to the exporter.

These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1), 751(a)(2)(B), and 777(i)(1) of the Act and 19 CFR 351.213 and 19 CFR 351.214.

Dated: February 2, 2015.
Paul Piquado,
Assistant Secretary for Enforcement and Compliance.

Appendix I

List of Topics Discussed in the Preliminary Decision Memorandum

(1) Summary

(2) Background

(3) Scope of the Order

(4) Respondent Selection for the AR

(5) Discussion Of The Methodology

a. Preliminary Determination of No Shipments

b. Bona Fides Analysis

c. Duty Absorption

d. NME Country Status

e. Separate Rates

f. Surrogate Country

g. Economic Comparability

h. Significant Producer of Comparable Merchandise

i. Data Availability

j. Date of Sale

k. Fair Value Comparisons

l. Differential Pricing Analysis

m. U.S. Price

n. Normal Value

o. Currency Conversion

p.

(6) Conclusion

[FR Doc. 2015-02838 Filed 2-10-15; 8:45 am]

BILLING CODE 3510-DS-P